DEPARTMENT OF AGRICULTURE

Forest Service

Del Norte Resource Advisory Committee (RAC)

AGENCY: Forest Service, USDA.

ACTION: Notice of meeting.

SUMMARY: The Del Norte Resource Advisory Committee (RAC) will meet in Crescent City, California. The committee meeting is authorized under the Secure Rural Schools and Community Self-Determination (SRS) Act (Pub. L. 110-343) and in compliance with the Federal Advisory Committee Act.

DATES: The meeting will be held November 9, 2010, from 5 p.m. to 9 p.m.

ADDRESSES: The meeting will be held at the Del Norte County Unified School District, Redwood Room, 301 West Washington Boulevard, Crescent City, California 95531.

FOR FURTHER INFORMATION CONTACT: Julie Ranieri, Committee Coordinator, Six Rivers National Forest, at (707) 441-3673; e-mail: jranieri@fs.fed.us.

SUPPLEMENTARY INFORMATION: The meeting is open to the public. The purpose of this meeting is to vote on which projects the RAC will recommend for funding. Public input opportunity will be provided and individuals will have the opportunity to address the Committee at that time.

Dated: October 8, 2010.
Tyrone Kelley,
Forest Supervisor.

[FR Doc. 2010-25970 Filed 10-14-10; 8:45 am]

BILLING CODE P